FEDERAL MARITIME COMMISSION

Sunshine Act Meeting

AGENCY HOLDING THE MEETING: Federal Maritime Commission.

TIME AND DATE: February 26, 2014; 10:00 a.m.

PLACE: 800 N. Capitol Street NW., First Floor Hearing Room, Washington, DC.

STATUS: The first portion of the meeting will be held in Open Session; the second in Closed Session.

MATTERS TO BE CONSIDERED:

Open Session

1. Update on the China Value Added Tax Affecting Ocean Export Freight Shipments.

2. FMC Information Resources Management Strategic Plan.

3. Staff Recommendation Concerning Third Party Subpoena.

Closed Session

1. Staff Follow-up Briefing Concerning FMC Global Regulatory Summit.

CONTACT PERSON FOR MORE INFORMATION: Karen V. Gregory, Secretary, (202) 523 5725.

Karen V. Gregory,
Secretary.

[FR Doc. 2014-03732 Filed 2-18-14; 4:15 pm]

BILLING CODE 6730-01-P